DEPARTMENT OF HOMELAND SECURITY

Coast Guard

33 CFR Part 165

[Docket No. USCG-2025-1134]

Safety Zone; Chicago Sanitary and Ship Canal, Chicago, IL

AGENCY: Coast Guard, DHS.

ACTION: Notification of enforcement of regulation.

SUMMARY: The Coast Guard will enforce a segment of the Safety Zone, Brandon Road Lock and Dam to Lake Michigan including Des Plaines River, Chicago Sanitary and Ship Canal, Chicago River, and Calumet-Saganashkee Channel Chicago, IL, on all waters of the Chicago Sanitary and Ship Canal from Mile Marker 295.5 to Mile Marker 297.5 for Permanent Barrier 1 In-Water Testing to be conducted from February 7, 2026, through February 22, 2026. This action is intended to provide for the safety of life on navigable waterways during electric fish barrier testing. During the enforcement period listed below, entry into, transiting, or anchoring within the safety zone is prohibited unless authorized by the Captain of the Port Lake Michigan or a designated representative.

DATES: The regulations in 33 CFR 165.930 will be enforced for the Chicago Sanitary and Ship Canal regulated area in § 165.930(a)(2) from February 7 through February 22, 2026. They will be subject to enforcement each day from 7 a.m. to 11 a.m., and from 1 p.m. to 5 p.m. Dates and times are subject to change or shift due to inclement weather or unforeseen circumstances.

FOR FURTHER INFORMATION CONTACT: If you have questions about this notice of enforcement, call or email Lieutenant Kyle Goetz, Marine Safety Unit Chicago, U.S. Coast Guard; telephone 630-986-2155, email: D09-SMB-MSUChicago-WWM@uscg.mil.

SUPPLEMENTARY INFORMATION: The Coast Guard will enforce a safety zone regulation in 33 CFR 165.930 for fish barrier testing from February 7 through February 22, 2026, each day from 7:00 a.m. to 11:00 a.m., and from 1:00 p.m. to 5:00 p.m. The regulated area—the Chicago Sanitary and Ship Canal, Mile Marker 295.5 to Mile Marker 297.5—is a 2-mile portion of the area specified in § 165.930(a)(2). All vessels must obtain permission from the Captain of the Port (COTP) Lake Michigan, or designated on-scene representative to enter, move within, or exit this safety zone during the enforcement time listed in this notice of enforcement. Vessels and persons granted permission to enter the safety zone must obey all lawful orders or directions of the COTP Lake Michigan or designated representative. Upon being hailed by siren, radio, flashing light or other means, the operator of a vessel must proceed as directed.

In addition to this notification of enforcement in the Federal Register, the Coast Guard will provide the maritime community with notification of this enforcement period via Broadcast Notice to Mariners. Lieutenant Kyle Goetz may be reached via telephone at 630-986-2155 for any inquiries.

An on-scene Safety Vessel may be reached during operating hours via VHF-FM Channel 16.

R.N. Macon,
Captain, U.S. Coast Guard, Captain of the Port, Lake Michigan.

[FR Doc. 2026-02335 Filed 2-5-26; 8:45 am]

BILLING CODE 9110-04-P